FEDERAL COMMUNICATIONS COMMISSION

47 CFR Parts 73 and 74

[MM Docket No. 99-25; FCC 00-349]

Creation of Low Power Radio Service

AGENCY: Federal Communications Commission.

ACTION: Final rule, correction.

SUMMARY: This document corrects errors in the final rule portion regarding low power radio service published in the Federal Register of November 9, 2000.

DATE: Effective December 11, 2000.

FOR FURTHER INFORMATION CONTACT: Julie Barrie, (202) 418-2130, Policy and Rules Division, Mass Media Bureau.

SUPPLEMENTARY INFORMATION: This contains corrections to the rule portion of the Commission's Memorandum Opinion and Order on Reconsideration (“MO&O”), MM 99-25; FCC 00-349, 65 FR 67289 (November 9, 2000). The full text of the Commission's MO&O is available for inspection and copying during normal business hours in the FCC Dockets Branch (Room TW-A306), 445 12 St. SW., Washington, DC. The complete text of this MO&O may also be purchased from the Commission's copy contractor, International Transcription Services, (202) 857-3800, 1231 20th St., NW., Washington, DC 20036.

Correction

§ 73.810 [Corrected]

1. In § 73.810, on page 67302, in the second column, paragraphs (b)(i), (b)(ii), (b)(iii), and (b)(iv) are corrected to read (b)(1), (b)(2), (b)(3), and (b)(4).

§ 73.860 [Corrected]

2. In § 73.860, on page 67304, in the first column, paragraphs (b)(i), (b)(ii), (b)(iii), and (b)(iv) are corrected to read (b)(1), (b)(2), (b)(3), and (b)(4).

William F. Caton,
Deputy Secretary.

[FR Doc. 00-29492 Filed 11-16-00; 8:45 am]

BILLING CODE 6712-01-P